DEPARTMENT OF HEALTH AND HUMAN SERVICES

[Document Identifier: OS-0990-0330; 30-Day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project—Annual Appellant Climate Survey—0990-0330—REVISION—Office of Medicare Hearings and Appeals (OMHA).

Abstract: The OMHA Appellant Climate Survey is a survey of Medicare beneficiaries, providers, and suppliers who had a hearing before an Administrative Law Judge (ALJ) at the Office of Medicare Hearings and Appeals (OMHA). Appellants dissatisfied with the outcome of their Level 2 appeal may request a hearing before an OMHA ALJ. The Appellant Climate Survey will be used to measure appellant satisfaction with their OMHA appeals experience, as opposed to their satisfaction with a specific ruling.

OMHA was established by the Medicare Prescription Drug, Improvement, and Modernization Act (MMA) of 2003 (Pub. L. 108-173) and became operational on July 1, 2005. The MMA legislation and implementing regulations issued on March 8, 2007 instituted a number of changes in the appeals process. The MMA legislation also directed the U.S. Department of Health and Human Services to consider the feasibility of conducting hearings using telephone or video-teleconference technologies. In carrying out this mandate, OMHA makes extensive use of video-teleconferencing to provide appellants with a vast nationwide network of access points for hearings close to their homes. The survey will gauge appellants' satisfaction with this new service along with the overall appeals experience. The first three-year administration cycle of the OMHA survey began in FY08. The survey will continue to be conducted annually over a three-year period, beginning in FY12. Results from the surveys will be used to gauge progress made in increasing satisfaction among appellants.

Estimated Annualized Burden Table
Form | Type of respondent | Number of respondents | Number of responses per respondent | Average burden hours per response (in hours) | Total burden hours
OMHA Appellant Climate Survey | Appellants | 400 | 1 | 11/60 | 73

Keith Tucker,
Office of the Secretary, Paperwork Reduction Act Reports Clearance Officer.

[FR Doc. 2011-24495 Filed 9-22-11; 8:45 am]

BILLING CODE 4150-46-P